GENERAL SERVICES ADMINISTRATION

[Notice-MG-2019-03; Docket No. 2019-0002; Sequence No. 16]

Office of Federal High-Performance Buildings; Notification of Public Comment Period

AGENCY: Office of Government-wide Policy (OGP), General Services Administration (GSA).

ACTION: Notification of public comment period.

SUMMARY: Notice of a public comment period is being provided. This notice provides the schedule for public comments on the Proposed Recommendations of the GSA about High-Performance Building Certification Systems.

DATES: Comment submissions on GSA's draft recommendations to the Secretary of Energy on high-performance building certification systems are due by Monday, July 15, 2019. 4:00 p.m., Eastern Daylight Time (EDT).

FOR FURTHER INFORMATION CONTACT: Mr. Michael Bloom, Office of Federal High-Performance Buildings, OGP, GSA, 1800 F Street NW, Washington, DC 20405, at email address michael.bloom@gsa.gov, or telephone number 312-805-6799.

SUPPLEMENTARY INFORMATION:

Background

Section 436(h) of the Energy Independence and Security Act of 2007 (EISA) requires GSA to evaluate high-performance building certification systems and provide the findings to the Secretary of Energy who, in consultation with the Department of Defense and GSA, formally identifies system(s) to be used across the federal government. GSA's Office of Federal High-Performance Buildings has just completed and published its High-Performance Building Certification Systems Review Findings Report (Findings Report). This report summarizes GSA's formal review of five systems that passed an initial market analysis screening (LEED, Green Globes, Living Building Challenge, BOMA BEST, and BREEAM). These systems were assessed against a set of review criteria to evaluate how they were developed and how effectively the systems align with current high-performance federal building requirements.

Purpose

GSA's draft recommendations are included in the materials for the May 28 meeting of the Green Building Advisory Committee, and are published on its website (http://www.gsa.gov/gbac). To assist GSA in its review and enrich its set of draft recommendations, GSA is seeking additional comments from the public.

Procedures for Attendance and Public Comment

GSA asks that stakeholders compile comments and questions into a single submission per each organization and send them to highperformancebuildings@gsa.gov, by Monday, July 15, 2019. Please indicate in the subject line the name of your organization and submit your comments either in the body of your email or through a Word or PDF attachment.

Kevin Kampschroer,
Federal Director, Office of Federal High-Performance Buildings, General Services Administration.

[FR Doc. 2019-13959 Filed 6-28-19; 8:45 am]

BILLING CODE 6820-14-P